DEPARTMENT OF ENERGY

Federal Energy Regulatory Commission

[Docket No. RP00-399-000]

National Fuel Gas Supply Corporation; Notice of Technical Conference

October 27, 2000.

Take notice that a technical conference to further discuss the various issues raised by National Fuel Gas Supply Corporation's Order No. 637 compliance filing will be held on Tuesday, November 14, 2000, at 10 am, in a room to be designated at the offices of the Federal Energy Regulatory Commission, 888 First Street, NE., Washington, DC 20426.

All interested persons and Staff are permitted to attend.

Linwood A. Watson, Jr.,
Acting Secretary.

[FR Doc. 00-28128 Filed 11-1-00; 8:45 am]

BILLING CODE 6717-01-M